OFFICE OF THE UNITED STATES TRADE REPRESENTATIVE

Notification of the First United States-Mexico-Canada Agreement Labor Council Meeting

AGENCY: Office of the United States Trade Representative.

ACTION: Notice and request for comments.

SUMMARY: The Parties to the United States-Mexico-Canada Agreement (USMCA) intend to hold the first meeting of the Labor Council virtually, on June 29, 2021. The session will include a government-to-government Labor Council meeting and a virtual public session on implementation of the USMCA labor chapter. The Office of the United States Trade Representative (USTR) and the U.S. Department of Labor (DOL) seek suggestions for topics to be discussed during the Labor Council meeting and questions from the public in advance of the public session.

DATES: June 29, 2021: The Parties will host a virtual public session on USMCA Chapter 23 (Labor) implementation from 12:00 p.m. to 2:00 p.m. EDT.

June 22, 2021: Deadline for submission of written suggestions for the Labor Council meeting topics and questions for the public session.

ADDRESSES: Submit written comments with the subject line `USMCA Labor Council Meeting' to Brenna Dougan, Director for Labor Affairs, USTR by email to USMCA.labor@ustr.eop.gov, and Samantha Tate, Division Chief for USMCA Monitoring and Enforcement, Office of Trade and Labor Affairs, Bureau of International Labor Affairs, DOL by email to ILAB-Outreach@DOL.gov.

FOR FURTHER INFORMATION CONTACT: Brenna Dougan, Director for Labor Affairs, USTR at 202-395-7391, or Samantha Tate, Division Chief for USMCA Monitoring and Enforcement, Office of Trade and Labor Affairs, Bureau of International Labor Affairs, DOL at 202-693-4920.

SUPPLEMENTARY INFORMATION:

I. Background

Article 23.14 of the USMCA establishes a Labor Council composed of senior government representatives from trade and labor ministries that must meet within one year of the date of entry into force of the USMCA. Thereafter, the Labor Council meets every two years, unless the Parties decide otherwise. The Labor Council may consider any matter within the scope of Chapter 23 (Labor) and perform other functions as the Parties may decide. In conducting its activities, including meetings, the Labor Council must provide a means for receiving and considering the views of interested persons on matters related to the labor chapter. If practicable, meetings will include a public session or other means for Council members to meet with the public to discuss matters relating to the implementation of Chapter 23 (Labor). Labor Council decisions and reports are made by consensus and will be made publicly available, unless the Council decides otherwise. The Labor Council issues a joint summary report or statement on its work at the end of each Council meeting.

II. Labor Council Meeting

The Labor Council will include a government-to-government session to discuss Parties' Chapter 23 (Labor) obligations and a virtual public session. The government-to-government session will not be open to the public.

III. Public Session on USMCA Chapter 23 Implementation

The Labor Council invites members of the public to attend a virtual public session on June 29, 2021, from 12:00 p.m. to 2:00 p.m. EDT, to address USMCA Chapter 23 (Labor) implementation. At the session, the Labor Council will welcome questions, input, and information concerning the implementation of Chapter 23 obligations. Details on how to access the public session will be made available by June 22 on the USTR website at https://ustr.gov/issue-areas/labor, and on the DOL website at https://www.dol.gov/agencies/ilab/our-work/trade/labor-rights-usmca.

IV. Comments

DOL and USTR invite comments suggesting topics for the United States government to consider as it prepares for the Labor Council meeting, and specific questions that could be addressed at the public session. When preparing comments, we encourage submitters to refer to Chapter 23 of the USMCA (https://ustr.gov/sites/default/files/files/agreements/FTA/USMCA/Text/23-Labor.pdf) and the USMCA Interagency Labor Committee for Monitoring and Enforcement Interim Procedural Guidelines for Petitions Pursuant to the USMCA (https://www.federalregister.gov/documents/2020/06/30/2020-14086/interagency-labor-committee-for-monitoring-and-enforcement-procedural-guidelines-for-petitions).

Joshua Kagan,
Acting Assistant U.S. Trade Representative for Labor, Office of the United States Trade Representative.

[FR Doc. 2021-12321 Filed 6-10-21; 8:45 am]

BILLING CODE 3290-F1-P